DEPARTMENT OF COMMERCE

National Telecommunications and Information Administration

[Docket Number 0907141137-0119-08]

RIN 0660-ZA28

Broadband Technology Opportunities Program

AGENCY: National Telecommunications and Information Administration, U.S. Department of Commerce.

ACTION: Notice of Funds Availability; Extension of Application Closing Deadline for Comprehensive Community Infrastructure (CCI) Projects.

SUMMARY: NTIA announces that the closing deadline for the submission of applications for Comprehensive Community Infrastructure (CCI) projects under the Broadband Technology Opportunities Program (BTOP) is extended until 5:00 p.m. Eastern Daylight Time (EDT) on March 26, 2010. There are no changes to the application filing window for Public Computer Center (PCC) and Sustainable Broadband Adoption (SBA) projects.

DATES: All applications for funding CCI projects must be submitted by 5 p.m. EDT on March 26, 2010. All applications for funding PCC and SBA projects must be submitted by 5 p.m. EDT on March 15, 2010.

FOR FURTHER INFORMATION CONTACT: For general inquiries regarding BTOP, contact Anthony Wilhelm, Director, BTOP, Office of Telecommunications and Information Applications, National Telecommunications and Information Administration, U.S. Department of Commerce (DOC), 1401 Constitution Avenue, NW., HCHB, Room 4887, Washington, DC, 20230; Help Desk email: BroadbandUSA@usda.gov, Help Desk telephone: 1-877-508-8364.

SUPPLEMENTARY INFORMATION: On January 22, 2010, NTIA published a Notice of Funds Availability (Second NOFA) and Solicitation of Applications in the Federal Register announcing general policy and application procedures for the second round of BTOP funding. 75 FR 3792 (2010). In the Second NOFA, NTIA established an application window for BTOP projects beginning February 16, 2010 at 8 a.m. Eastern Standard Time (EST) through March 15, 2010 at 5 p.m. EDT (application closing deadline).

NTIA announces this extension in the application closing deadline for CCI projects in the interest of ensuring that BTOP funding is made available in the most equitable manner. The complexity of preparing an infrastructure proposal that is truly comprehensive in scope and satisfies the CCI funding priorities outlined in the Second NOFA warrant reconsideration of the application closing deadline for CCI projects to facilitate the necessary coordination among the various stakeholders involved in or benefiting from the project. Additionally, there are a number of applicants whose infrastructure applications have been actively under consideration for funding in Round One. This extension of the application closing deadline will give those CCI applicants that are not selected for a Round One award additional time to strengthen the quality of their Round Two applications and maximize their opportunity to apply for BTOP funding.

All other requirements for CCI projects set forth in the Second NOFA remain unchanged. There are no changes to the requirements or application deadlines for PCC and SBA projects.

All applicants are strongly encouraged to submit their application early to avoid last minute congestion on the electronic intake system. However, early submission will not confer any advantage or priority in review.

Dated: March 2, 2010.
Lawrence E. Strickling,
Assistant Secretary for Communications and Information.

[FR Doc. 2010-4777 Filed 3-3-10; 1:00 pm]

BILLING CODE 3510-60-S